DEPARTMENT OF ENERGY

Federal Energy Regulatory Commission

[Docket No. RP03-256-000]

Honeoye Storage Corporation; Notice of Proposed Changes in FERC Gas Tariff

February 20, 2003.

Take notice that on February 14, 2003 Honeoye Storage Corporation (Honeoye) tendered for filing as part of its FERC Gas Tariff, First Revised Volume 1A, the revised tariff sheets listed on Appendix A to the filing, to be effective April 1, 2003.

Honeoye states that this filing is being made for four reasons: (1) To update its tariff to comply with the most recently approved North American Energy Standards Board (NAESB) standards; (2) to permit Honeoye to offer its customers the flexibility of revising nominations on a retroactive basis when operating conditions permit; (3) to modify certain billing and payment, creditworthiness and remedies provisions of Honeoye's tariff to enable Honeoye to obtain better credit information and protect itself against possible shipper defaults; and (4) to modify its procedures for allocating firm storage capacity to provide Honeoye with greater flexibility to determine winning bidders on a non-discriminatory basis.

Honeoye states that it is making this filing at this time so that prospective customers will have the opportunity to evaluate these changes prior to entering into gas storage agreements to become effective as of April 1, 2003. Honeoye states that there will be no change in rates and revenues under the proposed revisions.

Honeoye further states that copies of the filing are being mailed to Honeoye's jurisdictional customers and interested state regulatory agencies.

Any person desiring to be heard or to protest said filing should file a motion to intervene or a protest with the Federal Energy Regulatory Commission, 888 First Street, NE., Washington, DC 20426, in accordance with sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 26, 2003.

Magalie R. Salas,
Secretary.

[FR Doc. 03-4469 Filed 2-25-03; 8:45 am]

BILLING CODE 6717-01-P